DEPARTMENT OF LABOR

Employment and Training Administration

[TA-W-58,413]

Badger Paper Mills Currently Known as BPM, Inc. Flexible Packaging Division Ononto Falls, WI; Notice of Affirmative Determination Regarding Application for Reconsideration

By application received on February 1, 2006, a company official requested administrative reconsideration of the Department of Labor's Notice of Negative Determination Regarding Eligibility to Apply for Worker Adjustment Assistance, applicable to workers of the subject firm. The negative determination was signed on January 6, 2006 and published in the Federal Register on January 24, 2006 (71 FR 3887).

The determination stated that the subject firm did not separate or threaten to separate a significant number or proportion of workers as required by section 222 of the Trade Act of 1974.

In the request for reconsideration, the company official asserted that a greater number of workers were separated from the subject facility than was previously indicated.

The Department has carefully reviewed the request for reconsideration and has determined that the Department will conduct further investigation based on new information provided by the company official.

Conclusion

After careful review of the application, I conclude that the claim is of sufficient weight to justify reconsideration of the Department of Labor's prior decision. The application is, therefore, granted.

Signed at Washington, DC, this 24th day of February 2006.
Elliott S. Kushner,
Certifying Officer, Division of Trade Adjustment Assistance.

[FR Doc. E6-3420 Filed 3-9-06; 8:45 am]

BILLING CODE 4510-30-P